DEPARTMENT OF STATE

[Public Notice: 9537]

Notice of Charter Renewal: The Department of State Has Renewed the Charter of the Advisory Committee on International Communications and Information Policy (ACICIP) for a Period of Two Years

The Committee serves the Department of State in a solely advisory capacity regarding current issues and concerns affecting international communications and information policy. ACICIP members are private sector communications and information technology policy specialists from U.S. telecommunications companies, trade associations, policy institutions, and academia.

For further information, please call Joseph Burton, Executive Secretary, Advisory Committee on International Communications and Information Policy, Office of Communications and Information Policy, Economic and Business Affairs Bureau, U.S. Department of State at (202) 647-5231.

Dated: April 21, 2016.
Joseph Burton,
Designated Federal Officer, U.S. Department of State.

[FR Doc. 2016-09976 Filed 4-27-16; 8:45 am]

BILLING CODE 4710-AE-P